NUCLEAR REGULATORY COMMISSION

Request for a License to Export Deuterium

Pursuant to Title 10 of the Code of Federal Regulations (10 CFR) 110.70 (b) “Public Notice of Receipt of an Application,” please take notice that the U.S. Nuclear Regulatory Commission (NRC) has received the following request for an export license. Copies of the request are available electronically through the Agencywide Documents Access and Management System and can be accessed through the Public Electronic Reading Room link http://www.nrc.gov/reading-rm.html at the NRC Homepage.

A request for a hearing or petition for leave to intervene may be filed within thirty days after publication of this notice in the Federal Register (FR). Any request for hearing or petition for leave to intervene shall be served by the requestor or petitioner upon the applicant, the Office of the General Counsel, U.S. Nuclear Regulatory Commission, Washington, DC 20555; the Office of Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139; Aug. 28, 2007. Information about filing electronically is available on the NRC's public Web site at http://www.nrc.gov/site-help/e-submittals.html. To ensure timely electronic filing, at least five days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within thirty days after publication of this notice in the FR to Office of the Secretary, U.S. Nuclear Regulatory Commission, Washington, DC 20555, Attention: Rulemaking and Adjudications.

The information concerning this export license application follows.

NRC EXPORT LICENSE APPLICATION
Description of Material
Name of applicant date of application date received application no. docket no. | Material type | Total quantity | End use | Recipient country
Concert Pharmaceuticals, Inc., February 12, 2015, February 20, 2015, XMAT434, 11006190 | Heavy water (D2O) | ~20,000.0 kgs | Non-nuclear end-use in active pharmaceutical ingredient manufacturing | Switzerland.

Dated this 26th day of February, 2015 at Rockville, Maryland.
For the U.S. Nuclear Regulatory Commission.
David L. Skeen,
Deputy Director, Office of International Programs.

[FR Doc. 2015-05318 Filed 3-5-15; 8:45 am]

BILLING CODE 7590-01-P